DEPARTMENT OF LABOR

Employment and Training Administration

[TA-W-71,086]

Apria Healthcare, Foothill Ranch, CA; Notice of Termination of Investigation

Pursuant to Section 221 of the Trade Act of 1974, as amended, an investigation was initiated in response to a petition filed on June 9, 2009, by a company official, on behalf of workers of Apria Healthcare, Foothill Ranch, California, and seven other affiliated locations.

The petition is a duplicate of petition number TA-W-71,054, filed on June 8, 2009, that is the subject of an ongoing investigation. Therefore further investigation in this case would serve no purpose and the investigation has been terminated.

Signed at Washington, DC, this 14th of August 2009.
Richard Church,
Certifying Officer, Division of Trade Adjustment Assistance.

[FR Doc. E9-29170 Filed 12-7-09; 8:45 am]

BILLING CODE 4510-FN-P